DEPARTMENT OF TRANSPORTATION

Federal Railroad Administration

[Docket Number FRA-2020-0054]

Petition for Waiver of Compliance

Under part 211 of title 49 Code of Federal Regulations (CFR), this document provides the public notice that on June 26, 2020, Virgin Trains USA—Florida, LLC (VTUS) petitioned the Federal Railroad Administration (FRA) for a waiver of compliance from certain provisions of the Federal railroad safety regulations contained at 49 CFR part 270, System Safety Program. FRA assigned the petition Docket Number FRA-2020-0054.

VTUS requests relief from certain deadlines required under 49 CFR part 270 considering the company's temporary suspension of revenue passenger rail operations. Specifically, VTUS requests relief from the March 4, 2021, system safety program (SSP) plan filing requirement in § 270.201(a)(1). VTUS states that due to the COVID-19 public health emergency, VTUS suspended all passenger rail operations on March 26, 2020. A timeline for service restoration is currently unknown, but is not anticipated to precede the March 4, 2021, filing deadline for SSP. VTUS proposes to comply with part 270 as applicable to passenger railroads not currently in operation, and submit its SSP plan not less than 90 days before recommencing passenger operations.

Additionally, VTUS requests relief from the July 2, 2020, deadline in § 270.107(a)(3) for holding a preliminary meeting with directly affected employees. Due to the suspension of passenger rail operations on March 26, 2020, and that there are currently no directly affected employees to consult with, VTUS states that the July 2, 2020, deadline is not practicable. VTUS seeks to postpone such preliminary meeting until 120 days before recommencing passenger operations, allowing the company 30 days to incorporate comments from such meeting into its railroad consultation statement described in § 270.107(b).

A copy of the petition, as well as any written communications concerning the petition, is available for review online at www.regulations.gov and in person at the U.S. Department of Transportation's (DOT) Docket Operations Facility, 1200 New Jersey Ave. SE, W12-140, Washington, DC 20590. The Docket Operations Facility is open from 9 a.m. to 5 p.m., Monday through Friday, except Federal Holidays.

Interested parties are invited to participate in these proceedings by submitting written views, data, or comments. FRA does not anticipate scheduling a public hearing in connection with these proceedings since the facts do not appear to warrant a hearing. If any interested parties desire an opportunity for oral comment and a public hearing, they should notify FRA, in writing, before the end of the comment period and specify the basis for their request.

All communications concerning these proceedings should identify the appropriate docket number and may be submitted by any of the following methods:

• Website: http://www.regulations.gov. Follow the online instructions for submitting comments.

• Fax: 202-493-2251.

• Mail: Docket Operations Facility, U.S. Department of Transportation, 1200 New Jersey Ave. SE, W12-140, Washington, DC 20590.

• Hand Delivery: 1200 New Jersey Ave. SE, Room W12-140, Washington, DC 20590, between 9 a.m. and 5 p.m., Monday through Friday, except Federal Holidays.

Communications received by August 31, 2020 will be considered by FRA before final action is taken. Comments received after that date will be considered if practicable.

Anyone can search the electronic form of any written communications and comments received into any of our dockets by the name of the individual submitting the comment (or signing the document, if submitted on behalf of an association, business, labor union, etc.). Under 5 U.S.C. 553(c), DOT solicits comments from the public to better inform its processes. DOT posts these comments, without edit, including any personal information the commenter provides, to www.regulations.gov, as described in the system of records notice (DOT/ALL-14 FDMS), which can be reviewed at https://www.transportation.gov/privacy. See also https://www.regulations.gov/privacyNotice for the privacy notice of regulations.gov.

Issued in Washington, DC.
John Karl Alexy,
Associate Administrator for Railroad Safety, Chief Safety Officer.

[FR Doc. 2020-15187 Filed 7-14-20; 8:45 am]

BILLING CODE 4910-06-P